FEDERAL COMMUNICATIONS COMMISSION

47 CFR Part 64

[CC Docket No. 98-67; FCC 02-269]

Telecommunications Relay Services and the Americans With Disabilities Act of 1990; Correction

AGENCY: Federal Communications Commission.

ACTION: Final rule; correction.

SUMMARY: On February 7, 2003 (68 FR 6352), the Commission published final rules in the Federal Register, which amended the rules for coin sent-paid. This document contains a correction to the DATES section which was published inadvertently.

DATES: Effective March 10, 2003.

FOR FURTHER INFORMATION CONTACT: Janet Sievert, of the Consumer & Governmental Affairs Bureau at (202) 418-1362 (voice), (202) 418-1398 (TTY), or e-mail jsievert@fcc.gov.

SUPPLEMENTARY INFORMATION: The Federal Communications Commission published a document amending part 64 in the Federal Register of February 7, 2003, (68 FR 6352). This document corrects the DATES section of the Federal Register summary as it appeared.

In rule FR Doc. 03-3069 published on February 7, 2003 (68 FR 6352) make the following correction:

On page 6352, in the third column, it incorrectly reads: DATES: Effective [INSERT 30 DAYS AFTER PUBLICATION IN THE Federal Register] except § 64.604(c)(3) of the Commission's rules which contain information collection(s) requirement shall become effective following approval by the Office of Management and Budget. The Federal Communications Commission will publish a document in the Federal Register announcing the effective date.” Correct to read as follows: DATES: Effective March 10, 2003.”

Federal Communications Commission.
Marlene H. Dortch,
Secretary.

[FR Doc. 03-4174 Filed 2-21-03; 8:45 am]

BILLING CODE 6712-01-P